DEPARTMENT OF AGRICULTURE

Foreign Agricultural Service

Trade Adjustment Assistance for Farmers

AGENCY: Foreign Agricultural Service, USDA.

ACTION: Notice.

The Administrator, Foreign Agricultural Service (FAS), denied a petition for trade adjustment assistance (TAA) for cabbages that was filed on February 11, 2005, by A. Sam Farm, Inc., Dunkirk, New York.

SUPPLEMENTARY INFORMATION: Upon investigation, the Administrator determined that imports for the January-December 2003 marketing year declined by 22 percent from the same period in 2003. Since imports declined during the marketing year, the petition did not meet the increasing imports requirement, a condition required for certifying a petition for TAA.

FOR FURTHER INFORMATION, CONTACT: Jean-Louis Pajot, Coordinator, Trade Adjustment Assistance for Farmers, FAS, USDA, (202) 720-2916, e-mail: trade.adjustment@fas.usda.gov.

Dated: March 10, 2005.
A. Ellen Terpstra,
Administrator, Foreign Agricultural Service.

[FR Doc. 05-5461 Filed 3-18-05; 8:45 am]

BILLING CODE 3410-10-P